UNITED STATES INSTITUTE OF PEACE

Notice of Meeting

AGENCY: United States Institute of Peace.

DATE/TIME: Friday, October 20, 2017 (10:00 a.m.-1:00 p.m.).

LOCATION: 2301 Constitution Avenue NW., Washington, DC 20037.

STATUS: Open Session—Portions may be closed pursuant to Subsection (c) of Section 552(b) of Title 5, United States Code, as provided in subsection 1706(h)(3) of the United States Institute of Peace Act, Public Law 98-525.

AGENDA: October 20, 2017 Board Meeting: Chairman's Report; Vice Chairman's Report; President's Report; Approval of Minutes of the One Hundred and Sixty Second Meeting (April 21, 2017) and the One Hundred and Sixty Third Meeting (July 21, 2017) of the Board of Directors; Reports from USIP Board Committees; Ukraine/Russia Working Group Report; and Israel/Palestine Program Report.

CONTACT: William B. Taylor, Executive Vice President: wtaylor@usip.org.

Dated: October 3, 2017.
William B. Taylor,
Executive Vice President.

[FR Doc. 2017-21692 Filed 10-6-17; 8:45 am]

BILLING CODE 6820-AR-P